NATIONAL SCIENCE FOUNDATION

Notice of Permit Modification Received Under the Antarctic Conservation Act of 1978

AGENCY: National Science Foundation.

ACTION: Notice of Permit Modification Request Received and Permit Issued under the Antarctic Conservation Act of 1978, Public Law 95-541.

SUMMARY: The National Science Foundation (NSF) is required to publish a notice of requests to modify permits issued to conduct activities regulated and permits issued under the Antarctic Conservation Act of 1978. NSF has published regulations under the Antarctic Conservation Act at Title 45 Part 671 of the Code of Federal Regulations. This is the required notice of a requested permit modification and permit issued.

DATES: September 16, 2015 to March 15, 2016.

FOR FURTHER INFORMATION CONTACT: Li Ling Hamady, ACA Permit Officer, Division of Polar Programs, Rm. 755, National Science Foundation, 4201 Wilson Boulevard, Arlington, VA 22230. Or by email: ACApermits@nsf.gov

SUPPLEMENTARY INFORMATION: The Foundation issued a permit (ACA 2012-WM-001) to Dr. George Watters on September 29, 2011. The issued permit allows the applicant to run a field camp including deployment of instruments (radio tags on animals) and use of hazardous materials including radio isotopes. A recent modification to this permit, dated December 21, 2013, permitted the applicant to install up to 12 remote, autonomous, and easily removable camera systems near breeding aggregations of Adélie, gentoo, and chinstrap penguins throughout ASPA #128 on King George Island. The cameras will provide time-lapse photography during breeding and non-breeding seasons to estimate key monitoring parameters such as arrival timing, reproductive chronology and success, chick production, overwinter attendance, and census data. Now the applicant proposes a permit modification to install up to 22 of these cameras within ASPA 128 The Environmental Officer has reviewed the modification request and has determined that the amendment is not a material change to the permit, and it will have a less than a minor or transitory impact.

The permit modification was issued on September 16, 2015.
Nadene G. Kennedy,
Polar Coordination Specialist, Division of Polar Programs.

[FR Doc. 2015-24000 Filed 9-21-15; 8:45 am]

BILLING CODE 7555-01-P